DEPARTMENT OF STATE

[Public Notice 5859]

International Security Advisory Board (ISAB) Meeting Notice; Closed Meeting

In accordance with section 10(a)(2) of the Federal Advisory Committee Act, 5 U.S.C. app 2 § 10(a)(2), the Department of State announces a meeting of the International Security Advisory Board (ISAB) to take place on October 1, 2007, at the Department of State, Washington, DC.

Pursuant to section 10 (d) of the Federal Advisory Committee Act, 5 U.S.C. app 2 § 10 (d), and to 5 U.S.C. 552b (c)(1), it has been determined that this Board meeting will be closed to the public in the interest of national defense and foreign policy because the Board will be reviewing and discussing matters classified in accordance with Executive Order 12958.

The purpose of the ISAB is to provide the Department with a continuing source of independent advice on all aspects of arms control, disarmament and international security, and related aspects of public diplomacy. The agenda for this meeting will include classified discussions related to the Board's ongoing studies on current U.S. policy and issues regarding international security and nuclear proliferation.

For more information, contact Brandy Buttrick, Deputy Executive Director of the International Security Advisory Board, Department of State, Washington, DC 20520, telephone: (202) 647-9336.

Dated: August 14, 2007.
George W. Look,
Executive Director, International Security Advisory Board, Department of State.

[FR Doc. E7-16902 Filed 8-24-07; 8:45 am]

BILLING CODE 4710-27-P